ENVIRONMENTAL PROTECTION AGENCY

[EPA-HQ-OAR-2004-0082, FRL-8529-5]

Agency Information Collection Activities; Submission to OMB for Review and Approval; Comment Request; EPA's Natural Gas STAR Program (Renewal); EPA ICR No. 1736.05, OMB Control Number 2060-0328

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before March 17, 2008.

ADDRESSES: Submit your comments, identified by Docket ID No. EPA-HQ-OAR-2004-0082, to (1) EPA online using http://www.regulations.gov (our preferred method), by e-mail to a-and-r-Docket@epa.gov, or by mail to: EPA Docket Center, Environmental Protection Agency, Air and Radiation Docket, Environmental Protection Agency, Mailcode: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Suzie Waltzer, Office of Atmospheric Program, Climate Change Division, 6207J, Environmental Protection Agency, 1200 Pennsylvania Ave., NW., Washington, DC 20460; telephone number: 202-343-9544; fax number: 202-343-2202; e-mail address: waltzer.suzanne@epa.gov.

SUPPLEMENTARY INFORMATION: EPA has submitted the following ICR to OMB for review and approval according to the procedures prescribed in 5 CFR 1320.12. On November 1, 2007, (72 FR 61875) EPA sought comments on this ICR pursuant to 5 CFR 1320.8(d). EPA received no comments during the comment period. Any additional comments on this ICR should be submitted to EPA and OMB within 30 days of this notice.

EPA has established a public docket for this ICR under Docket ID No. EPA-HQ-OAR-2004-0082, which is available for online viewing at http://www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: EPA's Natural Gas STAR Program (Renewal).

ICR numbers: EPA ICR No. 1736.05, OMB control number 2060-0328.

ICR status: This ICR is currently scheduled to expire on March 31, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Natural Gas STAR is an EPA-sponsored, voluntary program that encourages natural gas companies to adopt cost effective methods for reducing methane emissions. Natural Gas STAR Partners agree to implement cost-effective technologies and practices to reduce methane emissions, which will save participants money and improve environmental quality. EPA needs to collect information to establish program participation and to obtain general information on new Natural Gas STAR Partners. EPA also uses the information collection to evaluate a Partner's progress and performance, assess overall program results, and develop technical guidance documents for the benefit of the industry. Information collection is accomplished through the use of an annual reporting process that allows companies to report their accomplishments in either a traditional hard-copy format or electronically. Participation in Natural Gas STAR is voluntary. Natural Gas STAR Partners may designate information submitted under this ICR as confidential business information. EPA will treat all such information as confidential business information and will not make the company or agency-specific information collected under this ICR available to the general public.

Burden Statement: The annual public reporting and recordkeeping burden for this collection of information is estimated to average 5,610 hours (24.2 hours per response). Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: The processing, production, transmission, and distribution sectors of the natural gas industry.

Estimated Number of Respondents: 155.

Average Frequency of Response: Yearly.

Estimated Total Annual Hour Burden: 5,610.

Estimated Total Annual Cost: $550,677 (includes $696 in capitalized O&M costs).

Changes in the Estimates: The overall annual reporting burden for respondents has increased from 4,705 hours in the previous ICR to 5,610 hours in the current ICR as a result of an increase in the number of Partners in the Natural Gas STAR program. Despite this increase, the average burden per partner has decreased from 40.6 hours per Partner to 36.2 hours per Partner. This decrease can be attributed to a larger percentage of Partners using the on-line Annual Report forms, and the availability of new materials on the Natural Gas STAR Web site. Fifty-eight percent of reporting partners used the on-line system in 2004 while 65% of reporting partners used the on-line system in 2007. Partners reported a subsequent decreased burden of 15% for this activity. The hourly burden estimates for data collection remained the same per Partner because the information requested and the collection methodology did not change.

Dated: February 7, 2008.
Sara Hisel-McCoy,
Director, Collection Strategies Division.

[FR Doc. E8-2783 Filed 2-13-08; 8:45 am]

BILLING CODE 6560-50-P